ENVIRONMENTAL PROTECTION AGENCY

40 CFR Part 52

[EPA-R08-OAR-2021-0262; FRL-9163-02-R8]

Approval and Promulgation of Implementation Plans; Colorado; Revisions to Regulation Number 7; Aerospace, Oil and Gas, and Other RACT Requirements for the 2008 8-Hour Ozone Standard for the Denver Metro/North Front Range Nonattainment Area

AGENCY: Environmental Protection Agency (EPA).

ACTION: Final rule.

SUMMARY: Subject to certain exceptions, the Environmental Protection Agency (EPA) is approving State Implementation Plan (SIP) revisions submitted by the State of Colorado on May 14, 2018, May 8, 2019, May 13, 2020 and March 22, 2021. The revisions are to Colorado Air Quality Control Commission (Commission or AQCC) Regulation Number 7 (Reg. 7). The revisions to Reg. 7 address Colorado's SIP obligation to require reasonably available control technology (RACT) for sources covered by the 2016 oil and natural gas control techniques guidelines (CTG or CTGs) for nonattainment areas classified as Moderate and above under the 2008 ozone National Ambient Air Quality Standard (NAAQS); update RACT requirements for major sources of volatile organic compounds (VOC) and nitrogen oxides (NOX); reorganize the regulation; add incorporation by reference dates to rules and reference methods; and make typographical, grammatical, and formatting corrections. Also, the EPA is finalizing approval of the State's negative declaration that there are no sources in the Denver Metro/North Front Range (DMNFR) Area subject to the aerospace CTG, which was conditionally approved in our February 24, 2021 rulemaking. Finally, we are taking no action today on several specific portions of the State submittals, as further explained below. The EPA is issuing this final rule pursuant to the Clean Air Act (CAA).

DATES: This rule is effective on December 6, 2021.

ADDRESSES: The EPA has established a docket for this action under Docket ID No. EPA-R08-OAR-2021-0262. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Abby Fulton, Air and Radiation Division, EPA, Region 8, Mailcode 8ARD-IO, 1595 Wynkoop Street, Denver, Colorado 80202-1129, telephone number: (303) 312-6563, email address: fulton.abby@epa.gov.

SUPPLEMENTARY INFORMATION: Throughout this document “we,” “us,” and “our” means the EPA.

I. Background

The background for this action is discussed in detail in our June 22, 2021 proposal.¹ In that document we proposed to approve various revisions to the Colorado SIP that were submitted to the EPA on May 14, 2018, May 8, 2019, May 13, 2020 and March 22, 2021. In particular, we proposed to approve certain Reg. 7 rules to meet the 2008 8-hour ozone NAAQS oil and gas CTG RACT requirements for Moderate nonattainment areas that were not acted on in our July 3, 2018 ² and February 24, 2021 ³ rulemakings. We also proposed to approve certain area source rules as meeting the 2008 8-hour ozone NAAQS RACT requirements for Serious nonattainment areas. Additionally, we proposed finalizing approval of the State's negative declaration that there are no sources in the DMNFR Area subject to the aerospace CTG, which was conditionally approved in our February 24, 2021 ⁴ rulemaking. The factual and legal background for this action is discussed in detail in our June 22, 2021 proposed approval. The proposal provides a detailed description of the revisions and the rationale for the EPA's proposed actions.

¹ 86 FR 32656.

² Final Rule, Approval and Promulgation of State Implementation Plan Revisions; Colorado; Attainment Demonstration for the 2008 8-Hour Ozone Standard for the Denver Metro/North Front Range Nonattainment Area, and Approval of Related Revisions, 83 FR 31068, 31069-31072.

³ Final Rule, Approval and Promulgation of Implementation Plans; Colorado; Revisions to Regulation Number 7 and RACT Requirements for 2008 8-Hour Ozone Standard for the Denver Metro/North Front Range Nonattainment Area, 86 FR 11125, 11126-11127.

⁴ 86 FR 11125.

II. Comments

We received comments on the proposal from several commenters. One comment was a request to set up an air monitoring station near the Denver International Airport where there is oil and natural gas drilling activity. This comment is outside the scope of this action.

One set of relevant comments was submitted by the Center for Biological Diversity, Earthworks, and the Sierra Club. The comments were related to compliance with the CAA, CTGs as guidance documents, requirements that constitute RACT, suggested RACT for specific emission points in Colorado's submittal, enforceability, and CAA section 110(l). A summary of the comments and the EPA's responses are provided in the Response to Comments Document, which is contained within the docket for this action.

One specific comment received was related to periodic testing and monitoring to demonstrate compliance with the 95% control efficiency for control devices.⁵ Upon further evaluation, the EPA determined that Colorado's SIP submissions were deficient for RACT purposes because Colorado did not include recommended provisions that are in the CTG concerning periodic performance testing for combustion devices controlling emissions from storage tanks and centrifugal compressors. Therefore, in this final action, the EPA is not acting on the following submitted revisions: Reg. 7, Section XII. J.1.⁶ from the May 14, 2018 submittal for centrifugal compressors; Sections I.D., I.E, and I.F. from the May 13, 2020 submittal for storage tanks; and I.J.1. for centrifugal compressors. The EPA proposed to approve these portions of the respective SIP submittals in our June 22, 2021 proposal. These portions of these SIP submittals will be acted on at a later date.

⁵ See comment and response number 16 in the “Response to Comments for the Federal Register Notice on Approval and Promulgation of Implementation Plans; Colorado; Revisions to Regulation Number 7; Aerospace, Oil and Gas, and Other RACT Requirements for 2008 8-Hour-Ozone Standard for the Denver Metro/North Front Range Nonattainment Area” document. Contained within the document for this section.

⁶ Since renumbered to Colorado Reg. 7, Part D, Section I.J.1.

III. Final Action

The EPA is approving submitted revisions to Sections II, XII, and XVIII of Reg. 7 from the State's May 14, 2018 and May 8, 2019 submittals and Parts A through E from the State's May 13, 2020 submission as shown in Table 1, except for those revisions we are not acting on as represented in Table 2. We are approving Colorado's determination that the above rules constitute RACT for the specific categories addressed in Table 3.

Table 1—List of Colorado Revisions to Reg. 7 That the EPA Is Approving in This Action
Revised sections in May 14, 2018, May 8, 2019 and May 13, 2020 submittals for approval
May 14, 2018 Submittal:
II.B, XII.A.2, XII.B.1.-B.3., XII.B.6-B.13, XII.B.15-B.21., XII.B.24.-B.25., XII.C.1.c.-1.e., XII.C.1.e.(iv), XII.F.3.a.(i)-a.(x), XII.F.5., XII.F.5.c-G.1., XII.G.3-G.4., XII.H.3., XII.H.6.a., XII.I., XII.I.5., XII.J., XII.J.2-2.e., XII.K-K.5., XII.L.-L.8.a.(v), XVIII, XVIII.B.1.-B.3., XVIII.B.5, XVIII.B.7.-B.11., XVIII.C.-C.2.c.(ii), XVIII.D.-D.2.b., and XVIII.E.-E.2.c.
May 8, 2019 Submittal:
XII.B.12.-B.13, XII.B.20., XII.G.3., XII.J.2.e., XII.K.5., XVIII.B.1., XVIII.B.5., XVIII.B.7.-B.9., and XVIII.D.1.b.
May 13, 2020 Submittal:
Outline of Regulation, PART A, I.A.1.c., I.B.1.c., I.B.2.h., II.B., PART B, I.-I.C., II.-II.B., III.-III.B., IV.-IV.D.4.e., V.-V.C., VI.-VI.C.4.c.(ii), VII.-VII.B.2.b., Appendix B.II., Appendix B.V., Appendix B.VIII., Appendix C, PART C, I.-I.O.5.a.(v), II.-II.F.6.j., III.-III.B.3.b., IV-IV.B.5.c.(iii)(B), V.-V.C.1., Appendix D (renumbering), Appendix E (renumbering), PART D, I.-I.B.27., I.B.29.-I.C.1.e., I.C.1.e.(iii)-e.(iv), I.C.2.-2.a.(v), I.G.-I.H.1., I.H.3.-I.I.5., I.J.2.-I.L.8.a.(v)., II.C., II.C.1.,II.C.1.b.(ii)-(ii)(B), II.F, III.-III.B.3., III.B.5., III.B.7.-III.C.2.c.(ii), III.D.-D.2.b., III.D.3.b., III.E.-E.2.c., PART E, I.-I.D., I.D.3.-3.a.(ii), II.-II.A.4.b., II.A.4.b.(ii)-4.c., II.A.4.e.-A.8.b.(i), III.-III.B.4.n., IV.-IV.A.7.c.

Table 2—List of Colorado Revisions to Reg. 7 That the EPA Is Taking No Action On
Revised sections | Reason for “no action”
May 14, 2018 Submittal:
XII.A.1., XII.A.1.c., XII.A.1.d.(ii), XII.A.3.-7., XII.B., XII.B.4.-5., XII.B.14., XII.B.22.-23., XII.C., XII.C.1.a., XII.C.1.e.(i)-(ii), XII.C.1.f.-(ii), XII.D., XII.D.1., XII.D.2.a.-(i), XII.D.2.a.(vi)-(vii), XII.E., XII.E.2.c., XII.F., and XII.F.4 | Superseded by the May 13, 2020 submittal.
XII.J.1 | Provision to be acted on in a future rulemaking.
XVIII.B.4 ⁷ | State requested that this be a “state only” definition.⁸
May 8, 2019 Submittal:
XII.J.1.j | Superseded by the May 13, 2020 submittal.
May 13, 2020 submittal:
Part E, II.A.4.b.(i) and II.A.4.d.-(i) | Provisions not previously approved in the SIP.
I.D.-D.3.a.(i), I.D.3.b.-b.(i), I.D.3.b.(ii), I.D.3.b.(v), I.D.3.b.(vii), I.D.3.b.(ix), I.D.4.-I.E.1.a., I.E.2.-.c.(ii), I.E.2.c.(iv)-c.(viii), I.F.-1.d., I.F.1.g.-g.(xii), I.F.1.h.-F.2.a., I.F.2.c.-c.(vi), I.F.3.-3.a, I.F.3.c.-c.(i)(C), and I.J.1 | Provisions to be acted on in a future rulemaking.

⁷ Revised Section III.B.4.

⁸ See March 1, 2021 email and attached letter from Colorado on “Revised Pneumatics SIP Revisions Justification” and May 3, 2021 email from Leah Martland, Colorado Air Pollution Control Division (contained within the docket). The definition for “enhanced response” is in reference to the State Only pneumatics “find and fix” program and thus not applicable to SIP provisions.

Table 3—Categories, Final Action, and Corresponding Sections of Submittals
Category | Final action | Location of RACT demonstration
Aerospace | Approval | Negative declaration. p. 6-3 of Colorado's Serious State Implementation Plan for the Denver Metro and North Front Range Ozone Nonattainment Area.⁹
General solvent use at major sources | Approval | pp. 619-620, 706, 2800, 2803 and Technical Support Document for Reasonably Available Control Technology for Major Sources (document number 56, p. 2134) of the May 13, 2020 submission.
Emissions from stationary internal combustion engines and flares at certain major sources | Approval | pp. 619, 622, 724, 2800-2801, 2803 and Technical Support Document for Reasonably Available Control Technology for Major Sources (document number 56, p. 2134) of the May 13, 2020 submission.

IV. Incorporation by Reference

⁹ See Colorado's March 22, 2021 submittal, document set 16 (in the docket for this action).

In this document, the EPA is finalizing regulatory text that includes incorporation by reference. In accordance with requirements of 1 CFR 51.5, the EPA is finalizing the incorporation by reference of Colorado Reg. 7 pertaining to regulation of sources of VOC and NOX emissions, except that we are not acting on the following submitted revisions: Reg. 7, Sections XII.J.1 from the May 14, 2018 submittal and Part D, Sections I.D., I.E., I.F. and I.J.1. from the May 13, 2020 submittal (as specified in Table 2 above). The EPA has made, and will continue to make, these materials generally available through www.regulations.gov and at the EPA Region 8 Office (please contact the person identified in the FOR FURTHER INFORMATION CONTACT section of this preamble for more information). Therefore, these materials have been approved by the EPA for inclusion in the State implementation plan, have been incorporated by reference by the EPA into that plan, are fully federally enforceable under sections 110 and 113 of the CAA as of the effective date of the final rulemaking of the EPA's approval, and will be incorporated by reference in the next update to the SIP compilation.¹⁰

¹⁰ 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

We proposed to approve state rules as meeting the CAA standard for RACT, which the EPA has defined as the lowest emission limitation that a particular source is capable of meeting by the application of control technology that is reasonably available considering technological and economic feasibility. We also proposed to determine that this rule, if finalized, would not have disproportionately high or adverse human health or environmental effects on minority or low-income populations as described in Executive Order 12898. As to the state rules we are approving in this action, we received no comments concerning disproportionate impacts. In addition, as explained above, EPA is not taking final action on certain portions of the RACT SIP submittals that we proposed to approve. We will take final action on those portions of the RACT SIP submittal at a later date. Accordingly, we will be further evaluating compliance with this executive order at a later date, when we take final action on those remaining portions of the RACT SIP submittals.

In addition, the SIP is not approved to apply on any Indian reservation land or in any other area where EPA or an Indian tribe has demonstrated that a tribe has jurisdiction. The rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 4, 2022. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Dated: October 28, 2021.
Debra H. Thomas,
Acting Regional Administrator, Region 8.

40 CFR part 52 is amended as follows:

PART 52—APPROVAL AND PROMULGATION OF IMPLEMENTATION PLANS

1. The authority citation for part 52 continues to read as follows:

Authority: 42 U.S.C. 7401 et seq.

Subpart G—Colorado

2. In § 52.320, the table in paragraph (c) is amended by removing the center heading “5 CCR 1001-09, Regulation Number 7, Control of Ozone Via Ozone Precursors and Hydrocarbons via Oil and Gas Emissions, (Emissions of Volatile Organic Compounds and Nitrogen Oxides)” and its subsequent entries and adding the following five center headings and their subsequent entries in its place:

a. “5 CCR 1001-09, Regulation Number 7, Control of Ozone Via Ozone Precursors and Hydrocarbons via Oil and Gas Emissions, (Emissions of Volatile Organic Compounds and Nitrogen Oxides), Part A, Applicability and General Provisions”;

b. “5 CCR 1001-09, Regulation Number 7, Control of Ozone Via Ozone Precursors and Hydrocarbons via Oil and Gas Emissions, (Emissions of Volatile Organic Compounds and Nitrogen Oxides), Part B, Storage, Transfer, and Disposal of Volatile Organic Compounds and Petroleum Liquids and Petroleum Processing and Refining”;

c. “5 CCR 1001-09, Regulation Number 7, Control of Ozone Via Ozone Precursors and Hydrocarbons via Oil and Gas Emissions, (Emissions of Volatile Organic Compounds and Nitrogen Oxides), Part C, Surface Coating, Solvents, Asphalt, Graphic Arts and Printing, and Pharmaceuticals”;

d. “5 CCR 1001-09, Regulation Number 7, Control of Ozone Via Ozone Precursors and Hydrocarbons via Oil and Gas Emissions, (Emissions of Volatile Organic Compounds and Nitrogen Oxides), Part D, Oil and Natural Gas Operations”; and

e. “5 CCR 1001-09, Regulation Number 7, Control of Ozone Via Ozone Precursors and Hydrocarbons via Oil and Gas Emissions, (Emissions of Volatile Organic Compounds and Nitrogen Oxides), Part E, Combustion Equipment and Major Source RACT”.

The additions read as follows:

§ 52.320 Identification of plan.

* * * * *

(c) * * *

Title | State effective date | EPA effective date | Final rule citation/date | Comments
* * * * * * *
5 CCR 1001-09, Regulation Number 7, Control of Ozone Via Ozone Precursors and Hydrocarbons via Oil and Gas Emissions, (Emissions of Volatile Organic Compounds and Nitrogen Oxides), Part A, Applicability and General Provisions
I. Applicability | 2/14/2020 | 12/6/2021 | [insert Federal Register citation], 11/5/2021 | Previous SIP approval 8/5/11 except for I.A.1.b, I.B.1.b, I.B.2.b, and I.B.2.d; nonsubstantive changes approved 7/3/2018, 2/24/2021, and 11/5/2021.
II. General Provisions | 2/14/2020 | 12/6/2021 | [insert Federal Register citation], 11/5/2021 | Previous SIP approval 8/5/2011 except for II.A.12, II.C.1, and the repeal of previously approved II.D; nonsubstantive changes to II.D approved 7/3/2018; nonsubstantive changes approved 2/24/2021 and 11/5/2021.
5 CCR 1001-09, Regulation Number 7, Control of Ozone Via Ozone Precursors and Hydrocarbons via Oil and Gas Emissions, (Emissions of Volatile Organic Compounds and Nitrogen Oxides), Part B, Storage, Transfer, and Disposal of Volatile Organic Compounds and Petroleum Liquids and Petroleum Processing and Refining
I. General Requirements for Storage and Transfer of Volatile Organic Compounds | 2/14/2020 | 12/6/2021 | [insert Federal Register citation], 11/5/2021 | Previous SIP approval 8/5/2011. nonsubstantive changes approved 2/24/2021 and 11/5/2021.
II. Storage of Highly Volatile Organic Compounds | 2/14/2020 | 12/6/2021 | [insert Federal Register citation], 11/5/2021 | Previous SIP approval 8/5/2011. nonsubstantive changes approved 11/5/2021.
III. Disposal of Volatile Organic Compounds | 2/14/2020 | 12/6/2021 | [insert Federal Register citation], 11/5/2021 | Previous SIP approvals 8/5/2011 and 2/24/2021; nonsubstantive changes approved 11/5/2021.
IV. Storage and Transfer of Petroleum Liquid | 2/14/2020 | 12/6/2021 | [insert Federal Register citation], 11/5/2021 | Previous SIP approval 8/5/2011; nonsubstantive changes to approved 7/3/2018 and 2/24/201. Substantive changes approved 11/5/2021.
V. Crude Oil | 2/14/2020 | 12/6/2021 | [insert Federal Register citation], 11/5/2021 | Previous SIP approval 8/5/2011; nonsubstantive approved 7/3/2018, 2/24/2021, and 11/5/2021.
VI. Petroleum Processing and Refining | 2/14/2020 | 12/6/2021 | [insert Federal Register citation], 11/5/2021 | Previous SIP approval 8/5/2011; nonsubstantive changes approved 7/3/2018, 2/24/2021, and 11/5/2021.
VII. Control of Volatile Organic Compound Leaks from Vapor Collection Systems and Vapor Control Systems Located at Gasoline Terminals, Gasoline Bulk Plants, and Gasoline Dispensing Facilities | 2/14/2020 | 12/6/2021 | [insert Federal Register citation], 11/5/2021 | Previous SIP approval 8/5/2011; nonsubstantive changes approved 2/24/2021, substantive changes made to VII.-VII.B.2.b approved 11/5/2021.
Appendix B Criteria for Control of Vapors from Gasoline Transfer to Storage Tanks | 2/14/2020 | 12/6/2021 | [insert Federal Register citation], 11/5/2021 | Previous approval 5/30/95. Substantive changes approved 11/5/2021
Appendix C Criteria for Control of Vapors from Gasoline Transfer at Bulk Plants | 2/14/2020 | 12/6/2021 | [insert Federal Register citation], 11/5/2021 | Previous approval 3/13/81. Nonsubstantive changes approved 11/5/2021.
5 CCR 1001-09, Regulation Number 7, Control of Ozone Via Ozone Precursors and Hydrocarbons via Oil and Gas Emissions, (Emissions of Volatile Organic Compounds and Nitrogen Oxides), Part C, Surface Coating, Solvents, Asphalt, Graphic Arts and Printing, and Pharmaceuticals
I. Surface Coating Operations | 2/14/2020 | 12/6/2021 | [insert Federal Register citation], 11/5/2021 | Previous SIP approval 8/5/2011; nonsubstantive changes approved 7/3/2018; substantive changes approved 2/24/2021, nonsubstantive changes approved 11/5/2021.
II. Solvent Use | 2/14/2020 | 12/6/2021 | [insert Federal Register citation], 11/5/2021 | Previous SIP approval 8/5/2011; substantive changes approved 2/24/2021 and 11/5/2021.
III. Use of Cutback Asphalt | 2/14/2020 | 12/6/2021 | [insert Federal Register citation], 11/5/2021 | Previous SIP approval 8/5/2011; nonsubstantive changes approved 2/24/2021 and 11/5/2021.
IV. Graphic Arts and Printing | 2/14/2020 | 12/6/2021 | [insert Federal Register citation], 11/5/2021 | Previous SIP approval 8/5/2011. Substantive changes made in 7/3/2018 rulemaking. IBR correction approved 2/24/2021. Nonsubstantive changes approved 11/5/2021.
V. Pharmaceutical Synthesis | 2/14/2020 | 12/6/2021 | [insert Federal Register citation], [insert date of publication in the Federal Register] | Previous SIP approval 8/5/2011;, nonsubstantive changes approved 2/24/2021 and [insert date of publication in the Federal Register].
Appendix D Minimum Cooling Capacities for Refrigerated Freeboard Chillers on Vapor Degreasers | 2/14/2020 | 12/6/2021 | [insert Federal Register citation], 11/5/2021 | Previous SIP approval 5/30/95. Nonsubstantive changes approved 11/5/2021.
Appendix E Emissions Limit Conversion Procedure | 2/14/2020 | 12/6/2021 | [insert Federal Register citation], 11/5/2021 | Previous SIP approval 5/30/95. Nonsubstantive changes approved 11/5/2021.
5 CCR 1001-09, Regulation Number 7, Control of Ozone Via Ozone Precursors and Hydrocarbons via Oil and Gas Emissions, (Emissions of Volatile Organic Compounds and Nitrogen Oxides), Part D, Oil and Natural Gas Operations
I. Volatile Organic Compound Emissions from Oil and Gas Operations | 2/14/2020 | 12/6/2021 | [insert Federal Register citation], 11/5/2021 | Previous SIP approval 2/13/2008. Substantive changes to Section XII; state-only provisions excluded, approved 7/3/2018. Substantive changes approved 11/5/2021 except no action on Sections I.D., I.E., I.F. and I.J.1.
II. Statewide Controls for Oil and Gas Operations | 2/14/2020 | 12/6/2021 | [insert Federal Register citation], 11/5/2021 | Substantive changes to II.C., II.C.1., II.C.1.b.(ii)-(B), and II.F approved 11/5/2021.
III. Natural Gas-Actuated Pneumatic Controllers Associated with Oil and Gas Operations | 2/14/2020 | 12/6/2021 | [insert Federal Register citation], 11/5/2021 | Substantive changes to III.-III.B.3., III.B.5., III.B.7.-III.C.2.c.(ii), III.D.-III.D.2.b., III.D.3.b., and III.E.-III.E.2.c. approved 11/5/2021.
5 CCR 1001-09, Regulation Number 7, Control of Ozone Via Ozone Precursors and Hydrocarbons via Oil and Gas Emissions, (Emissions of Volatile Organic Compounds and Nitrogen Oxides), Part E, Combustion Equipment and Major Source RACT
I. Control of Emissions from Engines | 2/14/2020 | 12/6/2021 | [insert Federal Register citation], 11/5/2021 | Previous SIP approval 8/19/2005 and 12/31/2012; nonsubstantive changes to sections XVI.A.-C. 7/3/2018; substantive changes approved 2/24/2021, except sections XVI.D.4.b.(i) and XVI.D.4.d. Section XVII.E.3.a. from the Regional Haze SIP approved in SIP. Previous SIP approval 12/31/2012; nonsubstantive changes approved 2/24/2021 and 11/5/2021.
II. Control of Emissions from Stationary and Portable Engines and Other Combustion Equipment in the 8-Hour Ozone Control Area | 2/14/2020 | 12/6/2021 | [insert Federal Register citation], 11/5/2021 | Previous SIP approvals 8/19/2005 and 12/31/2012; nonsubstantive changes to approved7/3/2018; substantive changes approved 2/24/2021 except sections XVI.D.4.b.(i) and XVI.D.4.d. Substantive changes approved 11/5/2021.
III. Control of Emissions from Specific Major Sources of VOC and/or NOx in the 8-Hour Ozone Control Area | 2/14/2020 | 12/6/2021 | [insert Federal Register citation], 11/5/2021 | New section approved in SIP 2/24/2021. Substantive changes approved 11/5/2021.
IV. Control of Emissions from Breweries in the 8-hour Ozone Control Area | 2/14/2020 | 12/6/2021 | [insert Federal Register citation], 11/5/2021 | New section approved in SIP 2/24/2021. Nonsubstantive changes approved 11/5/2021.
* * * * * * *

* * * * *

[FR Doc. 2021-24026 Filed 11-4-21; 8:45 am]

BILLING CODE 6560-50-P